DEPARTMENT OF COMMERCE

International Trade Administration

[A-570-879]

Antidumping Duty Order: Polyvinyl Alcohol from the People's Republic of China

Correction

In notice document 03-24899 beginning on page 56620 in the issue of October 1, 2003, make the following correction:

On page 56621, in the first column, in the table, under the heading “Margin (percent)”, in the second entry, “7.86” should read “97.86”.

[FR Doc. C3-24899 Filed 10-7-03; 8:45 am]

BILLING CODE 1505-01-D

COUNCIL ON ENVIRONMENTAL QUALITY

National Environmental Policy Act Task Force

Correction

In notice document 03-24527 beginning on page 55954 in the issue of Monday, September 29, 2003, make the following correction:

On page 55955, in the first column, in the eighth line, “Pugel” should read, “Puget”.

[FR Doc. C3-24527 Filed 10-7-03; 8:45 am]

BILLING CODE 1505-01-D